DEPARTMENT OF AGRICULTURE

Forest Service

Privacy Act of 1974; System of Records

AGENCY: Forest Service, USDA.

ACTION: Notice of a modified system of records.

SUMMARY: In accordance with the Privacy Act of 1974, and Office of Management and Budget Circular No. A-108 Federal Agency Responsibilities for Review, Reporting, and Publication, the U.S. Department of Agriculture (USDA or Department) is issuing a public notice of its intent to modify the current system of records titled “Department of Agriculture, Forest Service, FS-33 Law Enforcement and Investigative Records.” This system allows Law Enforcement and Investigations to record all criminal and civil investigations that take place or are related to crimes committed on National Forest System lands, which includes verified violations of criminal statutes and Forest Service (Agency) policy, as well as situations that may result in civil claims for or against the government. This information helps the Agency meet its objective of contributing to the safety of law enforcement officers, Forest Service employees, and national forest visitors.

DATES: This notice is applicable upon publication, subject to a 30-day period in which to comment on the routine uses described below. Comments must be submitted by October 15, 2024.

ADDRESSES: Comments, identified by docket number FS-2021-0002, may be submitted via one of the following methods:

1. Federal eRulemaking Portal: Go to http://www.regulations.gov and follow the instructions for submitting comments.

2. Email: Curtis Davis, sm.fs.usfslei@usda.gov.

3. Mail: Director, Law Enforcement and Investigations (Mail Stop 1140), USDA Forest Service, P.O. Box 96090, Washington, DC 20250.

Instructions: All submissions must include the agency name and docket number [FS-2021-0002]. All comments received, including any personal information provided, will be posted without change to https://www.regulations.gov.

Docket: For access to the docket to read background information or comments received go to https://www.regulations.gov.

FOR FURTHER INFORMATION CONTACT: For general questions please contact U.S. Department of Agriculture, Forest Service, Law Enforcement and Investigations Staff, 1400 Independence Avenue SW (Mail Stop 1140), Washington, DC 20250; phone 703-605-4730, email sm.fs.usfslei@usda.gov. For privacy questions, please contact Chief Privacy Officer, Office of the Chief Information Officer, Department of Agriculture, Washington, DC 20250. Cynthia Ebersohn by email at cynthia.ebersohn@usda.gov or by phone at 703-282-5413.

SUPPLEMENTARY INFORMATION: The purposes for changes to this system of records are:

1. To provide the procedures that allow individuals to gain access to their information maintained in this system of records notice as outlined in section 6 (Notice) and section 7 (Access, Redress, and Correction) of the Law Enforcement Investigations Reporting System (LEIRS), formerly known as Law Enforcement Investigations Management Attainment Record System (LEIMARS), and Law Enforcement Investigation (LEI) Vault Privacy Impact Assessments. LEIRS is the system of record for the LEI information technologies (IT) portfolio, which is comprised of LEIRS, the LEI Vault, and any later acquisitions that fall within the LEI IT portfolio for these purposes.

2. To reflect changes in practice and policy that affect the personally identifiable information (PII) maintained in this system of records. The LEIRS database is not accessible by the public. The information is shared on a need-to-know basis with law enforcement partners and the Federal, State, and local court systems. Information such as statistical crime analysis, including the number of incidents and cases, but excluding PII, is shared with Congress and other agencies on a need-to-know basis. This change to the routine uses section is intended to also meet the requirements of Executive Order 14074 to “include within the policies developed pursuant to subsection (a)(i) of this section protocols for expedited public release of BWC [body-worn camera] video footage following incidents involving serious bodily injury or deaths in custody, which shall be consistent with applicable law, including 7 CFR, 5 U.S.C., and the Privacy Act of 1974, and shall take into account the need to promote transparency and accountability, the duty to protect the privacy rights of persons depicted in the footage, and any need to protect ongoing law enforcement operations.”

The intended effect of these changes is to show individuals their PII information is secure within the LEI IT portfolio.

The Forest Service proposes to modify a system of records, entitled “USDA/FS-33 Law Enforcement and Investigative Records” that will be used to maintain records of activities conducted by the Agency pursuant to its mission and responsibilities.

The Forest Service LEIRS application is primarily a criminal database and is used to collect information concerning criminal incidents; it is also used to document incidents that may be non-criminal in nature, primarily pertaining to civil cases that may result in a claim for or against the government. LEI Vault contains visual imagery and audio recordings of law enforcement and investigation events and interviews conducted.

Consistent with the USDA's information sharing mission, information stored within the components of LEIRS may be shared with other USDA components, as well as appropriate Federal, State, local, tribal, foreign, or international government agencies. This sharing will only take place after the USDA determines the receiving component or agency has a need to know the information to carry out national security, law enforcement, immigration, intelligence, or other functions consistent with the routine uses set forth in this system of records notice.

The Privacy Act embodies fair information principles in a statutory framework governing the means by which the United States Government collects, maintains, uses, and disseminates personally identifiable information. The Privacy Act applies to information that is maintained in a “system of records.” A “system of records” is a group of any records under the control of an agency for which information is retrieved by using the name of an individual or using some identifying number, symbol, or other identifying particular assigned to the individual. In the Privacy Act, an individual is defined to encompass United States citizens and legal permanent residents.

The Privacy Act of 1974, as amended (5 U.S.C. 552a), requires agencies to publish in the Federal Register notice of new or revised systems of records maintained by the agency. In accordance with 5 U.S.C. 552a(r), the Department has provided a report of this system change to the Office of Management and Budget and to Congress.

SYSTEM NAME AND NUMBER:

USDA/FS-33 Law Enforcement and Investigative Records is the title given to the Law Enforcement Investigations IT (LEI IT) portfolio, consisting of the Law Enforcement Investigations Reporting System (LEIRS) and Law Enforcement Investigation (LEI) Vault.

SECURITY CLASSIFICATION:

Unclassified.

SYSTEM LOCATION:

LEIRS is a FedRAMP recognized centralized cloud-based database and is hosted within the Tyler Federal cloud-based hosting environment, which is housed within an Equinix provided data center physically located at 44470 Chilum Place, DC3—Bldg. 1, in Ashburn, VA.

LEI Vault is hosted in a FedRAMP recognized cloud-based environment hosted in Microsoft Azure. The address of the third-party service provider is Microsoft, 1 Microsoft Way, Redmond, WA 98052-6399.

SYSTEM MANAGER(S):

The Director, Law Enforcement and Investigations, U.S. Department of Agriculture, Forest Service, 1400 Independence Avenue SW (Mail Stop 1140), Washington, DC 20250.

PURPOSE(S) OF THE SYSTEM:

LEIRS is a national database used by USDA Forest Service Law Enforcement and Investigations, consisting of approximately 600 to 700 users dispersed throughout the nine Forest Service regions. The information is collected to document all criminal and civil investigations that take place or are related to crimes committed on National Forest System lands.

LEI Vault is the USDA-Forest Service implementation of technology to meet the data storage requirements that support the Law Enforcement and Investigations Directorate fielding of body-worn cameras. Body-worn cameras are widely used by law enforcement agencies in the United States. They are worn principally by sworn officers in the performance of duties that require open and direct contact with the public. Body-worn cameras are cameras with a microphone and internal data storage. They allow audio-video footage, known as digital media evidence, to be stored and analyzed with compatible software. Cameras are typically designed to be located on an officer's chest or head but may also be configured to deploy with a weapon or to be triggered when a weapon is deployed.

The LEI Vault and the underlying, supporting Axon Evidence(dot)com systems are not used by, nor are they available for access by the public. LEI Vault leverages the FedRAMP-accredited cloud resources provided by Axon Evidence(dot)com to store and manage law enforcement officers' digital evidence (such as camera footage and audio recordings of interviews) and to provide a central management console for associated products and devices. All data originate with and is consumed by authorized USDA Forest Service LEI personnel and staff. All data is subject to the USDA Forest Service LEI organization policies in place to govern this data, to include privacy and organization-level security.

RECORD SOURCE CATEGORIES:

LEIRS is primarily a criminal and civil investigation database and is used to collect information concerning criminal incidents that includes the PII related to suspects, witnesses, and victims in addition to information pertaining to the investigation of criminal activity. LEIRS collects the following information: first name, last name, middle initial, date of birth, home or mailing address, work address, driver's license, fishing license, hunting license, military issued ID, school issued ID, social security ID, state issued ID, height, weight, race, sex, hair color, eye color, adult/juvenile, and occupation, handwriting or an image of the signature. LEIRS is also used to document incidents that may be non-criminal in the nature, primarily pertaining to civil cases which may result in a claim for or against the government.

LEI Vault consists of video and audio evidence gathered by federal officers while in direct contact with subjects. The footage is not searchable by keyword.

ROUTINE USES OF RECORDS MAINTAINED IN THE SYSTEM, INCLUDING CATEGORIES OF USERS AND PURPOSES OF SUCH USES:

In addition to those disclosures generally permitted under 5 U.S.C. 552a(b) of the Privacy Act, routine uses are defined as disclosures where information is routinely shared whether internally or externally. Below are routine uses applicable to Law Enforcement and Investigative Records:

A. Sharing information with the Department of Justice when (a) USDA or any component thereof, (b) any employee of USDA in his or her official capacity where the Department of Justice has agreed to represent the employee, or (c) the United States Government is a party to litigation or has an interest in such litigation, and, by careful review, USDA determines that the records are both relevant and necessary to the litigation and the use of such records by the Department of Justice is therefore deemed by USDA to be for a purpose that is compatible with the purpose for which USDA collected the records.

B. Sharing information with a congressional office in response to an inquiry from that congressional office made at the written request of the individual to whom the record pertains.

C. Sharing information with the National Archives and Records Administration or other Federal Government agencies pursuant to records management inspections being conducted under the authority of 44 U.S.C. 2904 and 2906.

D. Sharing information with an agency, organization, or individual for the purpose of performing audit or oversight operations as authorized by law but only such information as is necessary and relevant to such audit or oversight function.

E. Sharing information with appropriate agencies, entities, and persons when (1) the USDA suspects or has confirmed that the security or confidentiality of information in the system of records has been compromised; (2) the USDA has determined that as a result of the suspected or confirmed breach, there is a risk of harm to individuals, the USDA (including its information systems, programs, and operations), the Federal Government, or national security; and (3) the disclosure made to such agencies, entities, and persons is reasonably necessary to assist in connection with USDA's efforts to respond to the suspected or confirmed compromise and prevent, minimize, or remedy such harm.

F. Sharing information when a record on its face, or in conjunction with other records, indicates a violation or potential violation of law, whether civil, criminal, or regulatory in nature, and whether arising by general statute or particular program statute, or by regulation, rule, or order issued pursuant thereto, disclosure may be made to the appropriate agency, whether Federal, foreign, State, local, or tribal, or other public authority responsible for enforcing, investigating, or prosecuting such violation or charged with enforcing or implementing the statute, or rule, regulation, or order issued pursuant thereto, if the information disclosed is relevant to any enforcement, regulatory, investigative, or prosecutorial responsibility of the receiving entity. Referral to the appropriate agency, whether Federal, State, local, or foreign, charged with the responsibility of investigating or prosecuting violation of law, or of enforcing or implementing a statute, rule, regulation, or order issued pursuant thereto, of any record within the system when information available indicates a violation or potential violation of law, whether civil, criminal, or regulatory in nature.

G. Sharing information with another Federal agency or Federal entity when information from this system of records is reasonably necessary to assist the recipient agency or entity in (a) responding to a suspected or confirmed breach, or (b) preventing, minimizing, or remedying the risk of harm to individuals, the recipient agency or entity (including its information systems, programs, and operations), the Federal Government, or national security, resulting from a suspected or confirmed breach.

H. Sharing information with a court or adjudicative body in a proceeding when (a) the USDA or any component thereof, (b) any employee of the USDA in his or her official capacity, or (c) any employee of the USDA in his or her individual capacity where the USDA has agreed to represent the employee or the United States Government, is a party to litigation or has an interest in such litigation, and by careful review, the USDA determines that the records are both relevant and necessary to the litigation and the use of such records is therefore deemed by the USDA to be for a purpose that is compatible with the purpose for which the USDA collected the records.

I. Sharing information with the news media and the public, with the approval of the Director of Law Enforcement and Investigations in consultation with the Chief Privacy Officer and the Office of the General Counsel, in support of law enforcement activities, including obtaining public assistance with identifying and locating criminal suspects and lost or missing individuals, and providing the public with alerts about dangerous individuals, unless the Chief Privacy Officer determines that release of the specific information in the context of a particular case would constitute a clearly unwarranted invasion of personal privacy.

J. Sharing information with the news media and the public, with the approval of the Director of Law Enforcement and Investigations in consultation with the Chief Privacy Officer and the Office of the General Counsel, of body-worn camera video footage following incidents involving serious bodily injury or death occurring while an individual is in the custody of a law enforcement officer, when a legitimate public interest exists in the disclosure of the information; when disclosure is necessary to preserve confidence in the integrity of the USDA; and when disclosure is necessary to demonstrate the accountability of the USDA's law enforcement officers, employees, or individuals covered by the system, unless the Chief Privacy Officer determines that release of the body-worn camera video footage in the context of a particular case would constitute a clearly unwarranted invasion of personal privacy. The public release of such video footage will be consistent with applicable law, including the Privacy Act of 1974, and shall take into account the duty to protect the privacy rights of the persons depicted in the footage and any need to protect ongoing law enforcement operations. The release will also comply with all applicable Department and Agency regulations and policies.

NOTIFICATION PROCEDURES:

LEIRS contains information about individuals that is recorded on a violation notice. Individuals who receive a violation notice are provided with a copy at the time of the incident. The notification provides a copy of all recorded information to individuals.

Information to individuals is provided via:

• LEIRS Privacy Impact Analysis on the Department Privacy Impact Analysis website at https://www.usda.gov/home/privacy-policy/privacyimpact-assessments.

• The Federal Register for system of records notices and legal authorities.

• Forest Service-specific system of records notices are also published on the Forest Service website at https://www.fs.fed.us/im/foia/pasystems.htm.

• Forms associated with Privacy Act systems are approved through the Office of Management and Budget under the Paperwork Reduction Act (also cited in the Federal Register); the forms cite the Privacy Act.

Any individual may request general information regarding this system of records or information as to whether the system contains records pertaining to him or her. All inquiries pertaining to this system should be in writing, must name the system of records as set forth in the system notice, and must contain the individual's name, telephone number, address, and email address (see specific instructions above).

Dated: September 5, 2024.
Randy Moore,
Chief, USDA Forest Service.

[FR Doc. 2024-20694 Filed 9-11-24; 8:45 am]

BILLING CODE 3411-15-P